FEDERAL RETIREMENT THRIFT INVESTMENT BOARD

Privacy Act of 1974; Systems of Records

AGENCY: Federal Retirement Thrift Investment Board.

ACTION: Notice of retirement of systems of records, revision of routine uses, revision of purpose and routine uses, technical revisions to systems of records, and establishment of new systems of records.

SUMMARY: Pursuant to the Privacy Act of 1974, 5 U.S.C. 552a, the Federal Retirement Thrift Investment Board (FRTIB) is proposing to: (1) Retire five systems of records; (2) create new general routine uses; (3) revise the purpose and routine uses of four existing systems of records; and (4) establish two new systems of records. The revisions implemented under this republication are corrective and administrative changes that refine and streamline previously published system of records notices.

DATES: Comments must be received on or before August 21, 2015 unless comments received on or before that date result in a contrary determination.

ADDRESSES: You may submit written comments to FRTIB by any one of the following methods:

• Federal eRulemaking Portal: http://www.regulations.gov. Follow the Web site instructions for submitting comments.

• Fax: 202-942-1676.

• Mail or Hand Delivery: Office of General Counsel, Federal Retirement Thrift Investment Board, 77 K Street NE., Suite 1000, Washington, DC 20002.

FOR FURTHER INFORMATION CONTACT: Marla Greenberg, Chief Privacy Officer, Federal Retirement Thrift Investment Board, Office of General Counsel, 77 K Street NE., Suite 1000, Washington, DC 20002, 202-864-8612. For access to any of the FRTIB's systems of records, contact Amanda Haas, FOIA Officer, Office of General Counsel, at the above address or by calling (202) 637-1250.

SUPPLEMENTARY INFORMATION:

(1) FRTIB Is Proposing To Retire Five Systems of Records

Pursuant the Privacy Act of 1974, 5 U.S.C. 552a, and as part of its ongoing integration efforts, the Federal Retirement Thrift Investment Board is retiring the following five systems of records notices: FRTIB-3, Equal Employment Opportunities Records (last published at 77 FR 11534 (February 27, 2012)); FRTIB-4, Adverse Information and Action Records: Disciplinary Records (last published 77 FR 11534 (February 27, 2012)); FRTIB-6, Leave Records (last published at FR (DATE)); FRTIB-10, Identity Management System (IDMS) (last published 77 FR 11534 (February 27, 2012)); and FRTIB-11, Financial Disclosure Reports and Outside Business Interest Records (last published at 77 FR 11534 (February 27, 2012)).

With regard to FRTIB-3, FRTIB will continue to collect and maintain records compiled during the pre-complaint counseling and the investigation of complaints under the Equal Employment Opportunity Act and will rely upon the existing Federal Government-wide system of records titled EEOC/GOVT-1 (Equal Employment Opportunity in the Federal Government Complaint and Appeal Records (67 FR 49338, July 30, 2002), which is written to cover all federal government EEO complaint and appeals records.

With regard to FRTIB-4, FRTIB will continue to collect and maintain personnel records and will rely upon the existing federal government-wide systems of records titled OPM/GOVT-1, General Personnel Records (71 FR 35342 June 19, 2006); OPM/GOVT-2, Employee Performance File System of Records (71 FR 35347 June 19, 2006); and OPM/GOVT-3, Records of Adverse Actions, Performance Based Reduction in Grade and Removal Actions and Termination of Probationers (71 FR 35350 June 19, 2006) which are written to cover all general federal government personnel records.

With regard to FRTIB-6, FRTIB will continue to collect and maintain employee leave records and will rely on FRTIB-5, Employee Payroll, Leave, and Attendance Records, as revised herein.

With regard to FRTIB-10, FRTIB will continue to collect and maintain records pertaining to the Personal Identity Verification (PIV) and Identity Management System (IDMS) and will rely upon the existing government-wide system of records titled GSA/GOVT-7 Personal Identity Verification Identity Management System (73 FR 22377 April 25, 2008) which is written to cover all PIV/IDMS records of participating agencies.

With regard to FRTIB-11, FRTIB will continue to collect and maintain Public and Confidential Financial Disclosure Reports and other ethics program records and will rely upon the existing government-wide systems of records entitled OGE/GOVT-1, Executive Branch Personnel Public Financial Disclosure Reports and Other Name-Retrieved Ethics Program Records (68 FR 24722 May 8, 2003) and OGE/GOVT-2, Executive Branch Confidential Financial Disclosure Reports (68 FR 24722 May 8, 2003) which are written to cover all federal government financial disclosure reports and other ethics program records.

Eliminating these notices will have no adverse impacts on individuals, but will promote the overall streamlining and management of FRTIB's Privacy Act record systems.

(2) FRTIB Is Proposing To Create General Routine Uses for All of Its Systems of Records

The following routine uses are incorporated by reference into various systems of records, as set forth below.

G1. Routine Use—Audit: A record from this system of records may be disclosed to an agency, organization, or individual for the purpose of performing an audit or oversight operations as authorized by law, but only such information as is necessary and relevant to such audit or oversight function when necessary to accomplish an agency function related to this system of records. Individuals provided information under this routine use are subject to the same Privacy Act requirements and limitations on disclosure as are applicable to FRTIB officers and employees.

G2. Routine Use—Breach Mitigation and Notification: A record from this system of records may be disclosed to appropriate agencies, entities, and persons when: (1) FRTIB suspects or has confirmed that the security or confidentiality of information in the system of records has been compromised; (2) FRTIB has determined that as a result of the suspected or confirmed compromise there is a risk of harm to economic or property interests, identity theft or fraud, or harm to the security or integrity of this system or other systems or programs (whether maintained by FRTIB or another agency or entity) that rely upon the compromised information; and (3) the disclosure made to such agencies, entities, and persons is reasonably necessary to assist in connection with the FRTIB's efforts to respond to the suspected or confirmed compromise and prevent, minimize, or remedy such harm.

G3. Routine Use—Clearance Processing: A record from this system of records may be disclosed to an appropriate federal, state, local, tribal, foreign, or international agency, if the information is relevant and necessary to a requesting agency's decision concerning the hiring or retention of an individual, or issuance of a security clearance, background investigation, license, contract, grant, or other benefit, or if the information is relevant and necessary to a FRTIB decision concerning the hiring or retention of an employee, the issuance of a security clearance, the reporting of an investigation of an employee, the letting of a contract, or the issuance of a license, grant or other benefit and when disclosure is appropriate to the proper performance of the official duties of the person making the request.

G4. Routine Use—Congressional Inquiries: A record from this system of records may be disclosed to a Congressional office from the record of an individual in response to an inquiry from that Congressional office made at the request of the individual to whom the record pertains.

G5. Routine Use—Contractors, et al.: A record from this system of records may be disclosed to contractors, grantees, experts, consultants, the agents thereof, and others performing or working on a contract, service, grant, cooperative agreement, or other assignment for FRTIB, when necessary to accomplish an agency function related to this system of records. Individuals provided information under this routine use are subject to the same Privacy Act requirements and limitations on disclosure as are applicable to FRTIB officers and employees.

G6. Routine Use—Debt Collection: A record from this system of records may be disclosed to the Department of Justice, the Department of Treasury, or to a consumer reporting agency for collection action on any delinquent debt, pursuant to 5 U.S.C. 552a(b)(12).

G7. Routine Use—Former Employees: A record from this system of records may be disclosed to a former employee of the FRTIB, in accordance with applicable regulations, for purposes of responding to an official inquiry by a federal, state, or local government entity or professional licensing authority; or facilitating communications with a former employee that may be necessary for personnel-related or other official purposes where the FRTIB requires information or consultation assistance from the former employee regarding a matter within that person's former area of responsibility.

G8. Routine Use—Investigations, Third Parties: A record from this system of records may be disclosed to third parties during the course of a law enforcement investigation to the extent necessary to obtain information pertinent to the investigation, provided disclosure is appropriate to the proper performance of the official duties of the third party officer making the disclosure.

G9. Routine Use—Investigations, Other Agencies: A record from this system of records may be disclosed to appropriate federal, state, local, tribal, or foreign government agencies or multilateral governmental organizations for the purpose of investigating or prosecuting the violations of, or for enforcing or implementing, a statute, rule, regulation, order, license, or treaty where FRTIB determines that the information would assist in the enforcement of civil or criminal laws.

G10. Routine Use—Law Enforcement Intelligence: A record from this system of records may be disclosed to a federal, state, tribal, local, or foreign government agency or organization, or international organization, lawfully engaged in collecting law enforcement intelligence information, whether civil or criminal, or charged with investigating, prosecuting, enforcing or implementing civil or criminal laws, related rules, regulations or orders, to enable these entities to carry out their law enforcement responsibilities, including the collection of law enforcement intelligence.

G11. Routine Use—Law Enforcement Referrals: A record from this system of records may be disclosed to an appropriate federal, state, tribal, local, international, or foreign agency or other appropriate authority charged with investigating or prosecuting a violation or enforcing or implementing a law, rule, regulation, or order, where a record, either on its face or in conjunction with other information, indicates a violation or potential violation of law, which includes criminal, civil, or regulatory violations and such disclosure is proper and consistent with the official duties of the person making the disclosure.

G12. Routine Use—Litigation, DOJ or Outside Counsel: A record from this system of records may be disclosed to the Department of Justice, FRTIB's outside counsel, other federal agency conducting litigation or in proceedings before any court, adjudicative or administrative body, when: (1) FRTIB, or (b) any employee of FRTIB in his or her official capacity, or (c) any employee of FRTIB in his or her individual capacity where DOJ or FRTIB has agreed to represent the employee, or (d) the United States or any agency thereof, is a party to the litigation or has an interest in such litigation, and FRTIB determines that the records are both relevant and necessary to the litigation and the use of such records is compatible with the purpose for which FRTIB collected the records.

G13. Routine Use—Litigation, Opposing Counsel: A record from this system of records may be disclosed to a court, magistrate, or administrative tribunal in the course of presenting evidence, including disclosures to opposing counsel or witnesses in the course of civil discovery, litigation, or settlement negotiations or in connection with criminal law proceedings or in response to a subpoena.

G14. Routine Use—NARA/Records Management: A record from this system of records may be disclosed to the National Archives and Records Administration (NARA) or other federal government agencies pursuant to the Federal Records Act.

G15. Routine Use—Redress: A record from this system of records may be disclosed to a federal, state, tribal, local, international, or foreign government agency or entity for the purpose of consulting with that agency or entity: (1) To assist in making a determination regarding redress for an individual in connection with the operations of a FRTIB program; (2) for the purpose of verifying the identity of an individual seeking redress in connection with the operations of a FRTIB program; or (3) for the purpose of verifying the accuracy of information submitted by an individual who has requested such redress on behalf of another individual.

G16. Routine Use—Security Threat: A record from this system of records may be disclosed to federal and foreign government intelligence or counterterrorism agencies when FRTIB reasonably believes there to be a threat or potential threat to national or international security for which the information may be useful in countering the threat or potential threat, when FRTIB reasonably believes such use is to assist in anti-terrorism efforts, and disclosure is appropriate to the proper performance of the official duties of the person making the disclosure.

G17. Routine Use—Testing: A record from this system of records may be disclosed to appropriate federal, state, local, tribal, or foreign governmental agencies or multilateral governmental organizations where FRTIB is aware of a need to utilize relevant data for purposes of testing new technology and systems designed to enhance security or identify other violations of law.

(3) FRTIB Is Proposing To Revise the Purpose of and Routine Uses to Four Systems of Records, and To Make Technical and Clarifying Changes to These Systems of Records

(a) FRTIB-2, Personnel Security Investigation Files

FRTIB is proposing to revise the purpose of and routine uses to FRTIB-2, Personnel Security Investigation Files (last published at 77 FR 11534 (February 27, 2012)). The existing purpose focuses on documenting and supporting decisions regarding access to FRTIB information and using it to process suitability, eligibility, and fitness for duty determinations. FRTIB is proposing to add the following sentence to the purpose: “The records may also be used to help streamline and make more efficient the investigations and adjudications process generally.” FRTIB is also proposing minor technical amendments to the purpose of the system to reflect the fact that the system of records deals with sensitive FRTIB information.

FRTIB is also proposing to reorder the routine uses for FRTIB-2, Personnel Security Investigation Files (this change is being made to all existing systems of records to the extent necessary to make all of FRTIB's notices uniform and to reflect the addition of FRTIB's proposed general routine uses). FRTIB is proposing to add fifteen general routine uses to apply to FRTIB-2, including G1 through G5; G7 through G9; and G11 through G17.

FRTIB is proposing to correct and update the system name; security classification; system location; categories of individuals covered by the system; categories of records in the system; authority for maintenance of the system; purpose; routine uses; disclosure to consumer reporting agencies; storage; retrievability; safeguards; retention and disposal; system manager and address; notification procedure; record access procedures; contesting records procedures; record source categories; and exemptions claimed for the system. Although FRTIB is proposing changes to the exemptions claimed for FRTIB-2, Personnel Security Investigation Files, the exemption itself will not change; rather, these changes are clarifying in nature.

(b) FRTIB-5, Employee Payroll, Leave, and Attendance Records

FRTIB is proposing to revise the purpose of and routine uses to FRTIB-5, Employee Payroll, Leave, and Attendance Records (last published at 77 FR 11534 (February 27, 2012)). The existing purpose focuses on FRTIB's payroll records. FRTIB is proposing to expand the purpose to include records concerning “leave, attendance, and payments, including determinations relating the amounts to be paid to employees, the distribution of pay according to employee direction (for allotments, to financial institutions, and for other authorized purposes), and for tax withholdings and other authorized deductions.”

FRTIB is also proposing to reorder the routine uses for FRTIB-5, Employee Attendance, Payroll, and Leave Records (this change is being made to all existing systems of records to the extent necessary to make all of FRTIB's notices uniform and to reflect the addition of FRTIB's proposed general routine uses). FRTIB is proposing to add two system-specific routine uses and sixteen general routine uses to apply to FRTIB-5, including G1 through G16.

FRTIB is proposing to correct and update the system name; security classification; system location; categories of individuals covered by the system; categories of records in the system; authority for maintenance of the system; purpose; routine uses; disclosure to consumer reporting agencies; storage; retrievability; safeguards; retention and disposal; system manager and address; notification procedure; record access procedures; contesting records procedures; record source categories; and exemptions claimed for the system.

(d) FRTIB-9, Emergency Notification Files

FRTIB is proposing to revise the purpose of and routine uses to FRTIB-9, Emergency Notification Records (last published at 77 FR 11534 (February 27, 2012)). The existing purpose focused on the location and notification of individuals during emergencies, as well as the creation of social rosters. FRTIB is proposing to remove reference to social rosters and to enable the Agency to use this information for business continuity purposes.

FRTIB is proposing to reorder the routine uses for FRTIB-9, Emergency Notification Records (this change is being made to all existing systems of records to the extent necessary to make all of FRTIB's notices uniform and to reflect the addition of FRTIB's proposed general routine uses). FRTIB is also proposing to add fourteen general routine uses to apply to FRTIB-9, including G1 through G2; G4 through G5; G7 through G9; and G11 through G17.

FRTIB is proposing to correct and update the system name; security classification; system location; categories of individuals covered by the system; categories of records in the system; authority for maintenance of the system; purpose; routine uses; storage; retrievability; safeguards; system manager and address; notification procedure; record access procedures; and contesting records procedures. Although FRTIB is proposing changes to the exemptions claimed for FRTIB-9, Emergency Notification Records, the exemption itself will not change; rather, these changes are clarifying in nature.

(e) FRTIB-13, Fraud and Forgery Records

FRTIB is proposing to revise the purpose of and routine uses to FRTIB-13, Fraud and Forgery Records (last published at 77 FR 11534 (February 27, 2012)). The existing purpose narrowly applied to records pertaining to fraud and forgery participants committed or alleged to have committed against their own accounts. FRTIB is proposing to broaden the scope of this system of records to include records pertaining to fraud or forgery committed by participants, beneficiaries, and third parties affecting a participant account. Moreover, FRTIB is proposing to expand the scope of this system to include records relating to third parties alleged to have misappropriated or to have attempted to misappropriate the Agency's name, brand, or logo.

FRTIB is also proposing to reorder the routine uses for FRTIB-13, Fraud and Forgery Records (this change is being made to all existing systems of records to the extent necessary to make all of FRTIB's notices uniform and to reflect the addition of FRTIB's proposed general routine uses). FRTIB is proposing to add twelve general routine uses to apply to FRTIB-13, including G1 through G2; G4 through G5; G8 through G14; and G16.

FRTIB is proposing to correct and update the security classification; system location; categories of individuals covered by the system; categories of records in the system; purpose; routine uses; disclosure to consumer reporting agencies; storage; retrievability; safeguards; system manager and address; notification procedure; record access procedures; contesting records procedures; record source categories; and exemptions claimed for the system. Although FRTIB is proposing changes to the exemptions claimed for FRTIB-13, Fraud and Forgery Records, the exemption itself will not change; rather, these changes are clarifying in nature.

(4) FRTIB Is Proposing To Create Two New Systems of Records

(a) FRTIB-14—FRTIB Legal Case Files

FRTIB is proposing to establish a new system of records entitled, FRTIB-14, Legal Case Files.” The proposed system of records is necessary to assist FRTIB attorneys in providing legal advice to FRTIB personnel on a wide variety of legal issues; to collect and maintain information of any individual who is or will be in litigation with the Agency; to represent FRTIB during litigation; and to catalogue, investigate, litigate, or otherwise resolve any case or matter handled by the Office of General Counsel.

These files may include: Notes, reports, legal opinions and memoranda; settlements; agreements; documentary evidence; claims and records regarding discrimination; correspondence; contracts; contract proposals and other procurement documents; TSP documents; participant, beneficiary, and alternate payee files; initial and final FRTIB determinations of FERSA matters; Freedom of Information Act and Privacy Act requests and appeals, and decisions of those requests and appeals; drafts and legal reviews of proposed personnel actions; personnel records; litigation files; employee relations files; witness statements; summonses and subpoenas; affidavits; court transcripts; discovery requests and responses; and breach reports and supporting documents. FRTIB is proposing to add four system-specific routine uses and sixteen general routine uses to apply to FRTIB-14, including G1 through G16.

(b) FRTIB-15—Internal Investigations of Harassment and Hostile Work Environment Allegations

FRTIB is proposing to establish a new system of record entitled, “FRTIB-15, Internal Investigations of Harassment and Hostile Work Environment Allegations.” The proposed system of records is necessary for the purpose of upholding FRTIB's policy to provide for a work environment free from all forms of harassment and will cover files that identify by name, or other personal identifier, individuals who have asserted that they have been subjected to harassment or hostile work environment at FRTIB, as well as individuals about whom such complaints have been made.

These files may include: The name, position, grade, and supervisor(s) of the complainant and the accused; the complaint; witness statements; interview notes; legal memoranda; reports of investigation; final decisions and corrective actions taken; and related correspondence and exhibits. FRTIB is proposing to add one system-specific routine use and sixteen general routine uses to apply to FRTIB-15, including G1 through G16.

Pursuant to 5 U.S.C. 552a(e)(11), interested persons are invited to submit written comments on the proposal of these two systems of records. A report on the proposed systems has been sent to Congress and the Office of Management and Budget for their awareness.

Greg Long,
Executive Director, Federal Retirement Thrift Investment Board.

FRTIB-2

System Name:

Personnel Security Investigation Files.

Security Classification:

Most personnel identity verification records are not classified. However, in some cases, records of certain individuals, or portions of some records may be classified in the interest of national security.

System Location(s):

Federal Retirement Thrift Investment Board, 77 K Street NE., Suite 1000, Washington, DC 20002. Records may also be kept at an additional location as backup for Business Continuity purposes. For background investigations adjudicated by the Office of Personnel Management (OPM), OPM may retain copies of those files pursuant to OPM/Central-9, Personnel Investigations Records.

Categories of Individuals Covered by the System:

Individuals who require regular, ongoing access to FRTIB facilities, information technology systems, or sensitive information, including current and former applicants for employment or contracts, federal employees, government contractors, students, interns, volunteers, affiliates, experts, instructors, and consultants to federal programs who undergo a background investigation for the purposes of determining suitability for employment, contractor fitness, credentialing for HSPD-12, and/or access to FRTIB facilities or information technology systems. This system also includes individuals accused of security violations or found in violation of FRTIB's security policies.

Categories of Records in the System:

Name; former names; date and place of birth; Social Security number; home address; email address(es); phone numbers; employment history; residential history; education and degrees earned; citizenship; passport information; names, date and place of birth, Social Security number, and citizenship information for spouse or cohabitant; the name and marriage information for current and former spouse(s); names of associates and references and their contact information; names, dates and places of birth, citizenship, and address of relatives; names of relatives who work for the federal government; information on foreign contacts and activities; association records; information on loyalty to the United States; criminal history; mental health history; information pertaining to drug use; financial information; fingerprints; information from the Internal Revenue Service pertaining to income tax returns; credit reports; information pertaining to security clearances; other agency reports furnished to FRTIB in connection with the background investigation process; summaries of personal and third party interviews conducted during the background investigation; results of suitability decisions; level of security clearance; date of issuance of security clearance; including, but not limited to forms such as SF-85, SF-85P, SF-86, SF-87, SF-306; FD-258; and other information generated from above, where applicable.

Records pertaining to security violations may contain information pertaining to circumstances of the violation; witness statements, investigator's notes, security violations; agency action taken; requests for appeal; and documentation of agency action taken in response to security violations.

Authority for Maintenance of the System:

5 U.S.C. 3301; 44 U.S.C. 3101; Executive Order 10450; Executive Order 13488; 5 CFR 731 and 736; 61 FR 6428; and Homeland Security Presidential Directive 12.

Purpose(s):

The records in this system of records are used to document and support decisions regarding clearance for access to sensitive FRTIB information, the ability to receive and the suitability, eligibility, and fitness for service of applicants for federal employment and contract positions, including students, interns, or volunteers to the extent their duties require access to federal facilities, information systems, or applications. The records may also be used to help streamline and make more efficient the investigations and adjudications process generally. The records may also be used to document security violations and supervisory actions taken in response to such violations.

Routine Uses of Records Maintained in the System, Including Categories of Users and the Purposes of such Uses:

Information about covered individuals may be disclosed without consent as permitted by the Privacy Act of 1974, as amended, 5 U.S.C. 552a(b); and:

1. General Routine Uses G1 through G5; G7 through G9; G7 through G9; and G11 through G16 apply to this system of records (see Prefatory Statement of General Routine Uses).

2. A record from this system of records may be disclosed to any authorized source or potential source from which information is requested in the course of an investigation concerning the retention of an employee or other personnel action (other than hiring), or the retention of a security clearance, contact, grant, license, or other benefit, to the extent necessary to identify the individual, to inform the source of the nature and purpose of the investigation, or to identify the type of information requested.

3. A record from this system of records may be disclosed to OPM, the Merit Systems Protection Board, the Federal Labor Relations Authority, the Office of Special Counsel, or the Equal Employment Opportunity Commission to carry out its respective authorized functions (under 5 U.S.C. 1103, 1204, and 7105 and 42 U.S.C. 2000e-4, in that order).

4. To the Office of Management and Budget when necessary to the review of private relief legislation pursuant to OMB Circular No. A-19.

5. A record from this system of records may be disclosed to a Federal, State, local, foreign, or tribal or other public authority the fact that this system of records contains information relevant to the retention of an employee, the retention of a security clearance, the letting of a contract, or the issuance or retention of a license, grant, or other benefit. The other agency or licensing organization may then make a request supported by the written consent of the individual for the entire record if it so chooses. No disclosure will be made unless the information has been determined to be sufficiently reliable to support a referral to another office within the agency or to another Federal agency for criminal, civil, administrative personnel or regulatory action.

6. A record from this system of records may be disclosed to the news media or the general public, factual information the disclosure of which would be in the public interest and which would not constitute an unwarranted invasion of personal privacy, consistent with Freedom of Information Act standards.

7. A record from this system of records may be disclosed to a Federal, State, or local agency, or other appropriate entities or individuals, or through established liaison channels to selected foreign governments, in order to enable an intelligence agency to carry out its responsibilities under the National Security Act of 1947 as amended, the CIA Act of 1949 as amended, Executive Order 12333 or any successor order, applicable national security directives, or classified implementing procedures approved by the Attorney General and promulgated pursuant to such statutes, orders or directives.

Disclosure to Consumer Reporting Agencies:

None.

Policies and Practices for Storing, Retrieving, Accessing, Retaining, and Disposing of Records in the System:

Storage:

Records are maintained in paper and electronic form, including on computer databases, all of which are stored in a secure location.

Retrievability:

Background investigation files are retrieved by any one or more of the following identifiers: Name; Social Security number; or other unique identifier of the individual about whom they are maintained.

Safeguards:

FRTIB has adopted appropriate administrative, technical, and physical controls in accordance with FRTIB's security program to protect the security, confidentiality, availability, and integrity of the information, and to ensure that records are not disclosed to or accessed by unauthorized individuals.

Paper records are stored in locked file cabinets in areas of restricted access that are locked after office hours. Electronic records are stored on computer networks and protected by assigning usernames to individuals needing access to the records and by passwords set by unauthorized users that must be changed periodically.

Retention and Disposal:

These records are retained and disposed of in accordance with General Records Schedule 18, item 22a, approved by the National Archives and Records Administration (NARA). The records are disposed in accordance with FRTIB disposal policies which call for burning or shredding or deleting from the Agency's electronic record keeping systems. Records are destroyed upon notification of death or not later than five years after separation or transfer of employee to another agency or department, whichever is applicable.

System Manager(s) and Address(es):

Personnel Security Specialist, 77 K Street NE., Suite 1000, Washington, DC 20002.

Notification Procedure:

Individuals seeking to determine whether this system of records contains information about themselves should submit a written request to the appropriate entity below, and include the following information:

a. Full name;

b. Any available information regarding the type of record involved;

c. The address to which the record information should be sent; and

d. You must sign your request.

1. For records maintained by FRTIB, submit a written request to the FOIA Officer, FRTIB, 77 K Street NE., Washington, DC 20002; or

2. For records maintained by the Office of Personnel Management, submit a written request to the FOI/PA, Office of Personnel Management, Federal Investigative Services, P.O. Box 618, 1137 Branchton Road, Boyers, PA 16018-0618.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedures:

Same as Notification Procedures.

Contesting Record Procedures:

Same as Notification Procedures.

Record Source Categories:

Information is obtained from a variety of sources including the employee, contractor, or applicant via use of the SF-85, SF-85P, SF-86 SF-306, or SF-87, personal interviews with various individuals, including, but not limited to the subject of the investigation, witnesses, present and former employers, references, neighbors, friends, co-workers, business associates, teachers, landlords, family members, or other associates who may have information about the subject of the investigation; investigative records and notices of personnel actions furnished by other federal agencies; records from employers and former employers; public records, such as court filings; publications such as newspapers, magazines, and periodicals; FBI criminal history records and other databases; police departments; probation officials; prison officials financial institutions and credit reports; tax records; medical records and health care providers; and educational institutions. Security violation information is obtained from a variety of sources, such as guard reports, security inspections, witnesses, supervisor's reports, audit reports.

Exemptions Claimed for the System:

Pursuant to 5 U.S.C. 552a(k)(2), records in this system of records are exempt from the requirements of subsections (c)(3); (d); (e)(1); (e)(4)(G), (H), (I); and (f) of 5 U.S.C. 552a. provided, however, that if any individual is denied any right, privilege, or benefit that he or she would otherwise be entitled to by federal law, or for which he or she would otherwise be eligible, as a result of the maintenance of these records, such material shall be provided to the individual, except to the extent that the disclosure of the material would reveal the identity of a source who furnished information to the Government with an express promise that the identity of the source would be held in confidence.

Pursuant to 5 U.S.C. 552a(k)(5), records in this system of records are exempt from the requirements of subsections (c)(3); (d); (e)(1); (e)(4)(G), (H), (I); and (f) of 5 U.S.C. 552a, but only to the extent that the disclosure of such material would reveal the identity of a source who furnished information to the Government under an express promise that the identity of the source would be held in confidence.

FRTIB-5

System Name:

Employee Payroll, Leave, and Attendance Records.

Security Classification:

None.

System Location:

Records are located at the Federal Retirement Thrift Investment Board, 77 K Street NE., Suite 1000, Washington, DC 20002. Records may also be maintained at additional locations for Business Continuity purposes.

Categories of Individuals Covered by the System:

Current and former FRTIB employees, including Special Government Employees

Categories of Records in the System:

This system of records includes personnel information including, names, addresses, Social Security numbers, employee numbers, gender, race or national origin, and disability data; duty location; position data; awards and bonus information; employment verification information; notifications of personnel actions; and military and veterans data.

This system of records also includes payroll information, including: Marital status and number of dependents; child support enforcement court orders; information about taxes and other deductions; debts owed to the FRTIB and garnishment information; salary data; retirement data; Thrift Savings Plan contribution and loan amount; and direct deposit information, including financial institution.

This system of records also includes time and attendance records including, the number and type of hours worked; overtime information, including compensatory or credit time earned and used; compensatory travel earned; investigative case title and tracking number (used to track time worked associated with a specific case); Fair Labor Standards Act (FLSA) compensation; leave requests, balances, and credits; leave charge codes; military leave; and medical records as they pertain to employee medical leave.

Authority for Maintenance of the System:

5 U.S.C. 8474; and 44 U.S.C. 3101.

Purpose(s):

This system of records is maintained to perform agency functions involving employee leave, attendance, and payments, including determinations relating to the amounts to be paid to employees, the distribution of pay according to employee directions (for allotments, to financial institutions, and for other authorized purposes), and for tax withholdings and other authorized deductions.

Routine Uses of Records Maintained in the System, Including Categories of Users and the Purposes of Such Uses:

Information about covered individuals may be disclosed without consent as permitted by the Privacy Act of 1974, 5 U.S.C. 552a(b), and:

a. General Routine Uses G1 through G16 apply to this system of records (see Prefatory Statement of General Routine Uses).

b. A record from this system may be disclosed to the United States Department of the Interior, the United States Department of Labor, and the United States Department of the Treasury to effect payments to employees.

c. Payments owed to FRTIB through current and former employees may be shared with the Department of the Interior for the purposes of offsetting the employee's salary. Payments owed to FRTIB through current and former employees who become delinquent in repaying the necessary funds may be shared with the Department of Treasury for the purpose of offsetting the employee's salary.

Disclosure to Consumer Reporting Agencies:

None.

Policies and Practices for Storing, Retrieving, Accessing, Retaining, and Disposing of Records in the System:

Storage:

Records are maintained in paper and electronic form, including on computer databases, all of which are stored in a secure location.

Retrievability:

Records are retrieved by name; or Social Security number.

Safeguards:

FRTIB has adopted appropriate administrative, technical, and physical controls in accordance with FRTIB's security program to protect the security, confidentiality, availability, and integrity of the information, and to ensure that records are not disclosed to or accessed by unauthorized individuals.

Paper records are stored in locked file cabinets in areas of restricted access that are locked after office hours. Electronic records are stored on computer networks and protected by assigning usernames to individuals needing access to the records and by passwords set by unauthorized users that must be changed periodically.

Retention and Disposal:

Records are maintained in accordance with the General Records Schedules issued by the National Archives and Records Administration (NARA) or an FRTIB records disposition schedule.

System Manager(s) and Address:

For payroll records, FRTIB's Human Resources Officer, 77 K Street NE., Suite 1000, Washington, DC 20002.

For leave and attendance records, FRTIB's Administrative Officer, 77 K Street NE., Suite 1000, Washington, DC 20002.

Notification Procedure:

Individuals seeking to determine whether this system of records contains information about themselves must submit a written request to the FOIA Officer, FRTIB, 77 K Street NE., Washington, DC 20002, and provide the following information:

b. Full name;

c. Any available information regarding the type of record involved;

d. The address to which the record information should be sent; and

e. Your signature.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedure:

Same as Notification Procedures.

Contesting Records Procedure:

Same as Notification Procedures.

Record Source Categories:

Subject individuals; subject individuals' supervisor(s); subject individuals' timekeeper(s); and the Office of Personnel Management.

Exemptions Claimed for System:

None.

FRTIB-9

System Name:

FRTIB Emergency Notification Records.

Security Classification:

None.

System Location(s):

Records are located at the Federal Retirement Thrift Investment Board, 77 K Street NE., Suite 1000, Washington, DC 20002. Records may also be located in additional locations in connection with cloud-based services and kept at an additional location as backup for Business Continuity purposes.

Categories of Individuals Covered by the System:

Civilian and contractor personnel working at the FRTIB located at 77 K Street NE., Washington, DC 20002; former employees; and individuals designated as emergency points of contact.

Categories of Records in the System:

This system of records contains information regarding the following emergency contact information for FRTIB employees, and contractor personnel: Name; organizational office, or organizational name of contractor; title; position and duty status; name of supervisor; any volunteered medical information; office telephone number; government or business e-mail address; home address; home and cell phone numbers; personal email address(es); the identification of essential and non-essential employees; and other personal contact information. This system also contains the following information for the FRTIB employee or contractor's emergency contact: name; relationship to FRTIB employee or contractor; work address; home address; office telephone number; home and cell phone numbers; and email address(es).

Authority for Maintenance of the System:

5 U.S.C. 8474; 44 U.S.C. 3101; Executive Order 12656; and Presidential Decision Directive 67.

Purpose(s):

This system of records is maintained for contacting FRTIB personnel, including FRTIB employees and contractors, and other individuals to respond to all emergencies, including technical, manmade or natural disaster, or other event affecting FRTIB operations, and to contact FRTIB personnel's emergency contacts in the event of an emergency.

Information from this system of records is also used to prepare organizational charts, recall and emergency notification rosters, and directories for business continuity planning purposes, locate individuals on routine and/or emergency matters; locate individuals during medical emergencies, facility evacuations and similar situations involving threats; and similar administrative uses requiring personnel data.

Routine Uses of Records Maintained in the System, Including Categories of Users and the Purposes of such Uses:

Information about covered individuals may be disclosed without consent as permitted by the Privacy Act of 1974, 5 U.S.C. 552a(b), and:

d. General Routine Uses G1 through G2; G4 through G5; G7 through G9; and G11 through G17 apply to this system of records (see Prefatory Statement of General Routine Uses).

e. A record in this system of records may be disclosed to family members, emergency medical personnel, or to law enforcement officials in case of a medical or other emergency involving the subject individual (without the subsequent notification prescribed in 5 U.S.C. 552a(b)(8)).

Disclosure to Consumer Reporting Agencies:

None.

Policies and Practices for Storing, Retrieving, Accessing, Retaining, and Disposing of Records in the System:

Storage:

Records are maintained electronically in computer databases, including cloud-based services, and on paper in secure facilities in a locked drawer behind a secured-access door.

Retrievability:

Records are retrieved by the name of the individual on whom they are maintained, and may also be retrieved by the individual's title or phone number.

Safeguards:

FRTIB has adopted appropriate administrative, technical, and physical controls in accordance with FRTIB's security program to protect the security, confidentiality, availability, and integrity of the information, and to ensure that records are not disclosed to or accessed by unauthorized individuals.

Paper records are stored in file cabinets in areas of restricted access that are locked after office hours. Electronic records are stored on computer networks, including cloud-based services, and are protected by assigning usernames to individuals needing access to the records and by passwords set by unauthorized users that must be changed periodically.

Retention and Disposal:

Records are maintained as long as the individual is an employee or contractor for the Agency. Expired records are destroyed by shredding or purging from the Agency's electronic record keeping systems.

System Manager(s) and Address(es):

Physical Security Specialist, 77 K Street NE., Suite 1000, Washington, DC 20002.

Notification Procedure:

Individuals seeking to determine whether this system of records contains information about themselves must submit a written request to the FOIA Officer, FRTIB, 77 K Street NE., Washington, DC 20002, and provide the following information:

f. Full name;

g. Any available information regarding the type of record involved;

h. The address to which the record information should be sent; and

i. You must sign your request.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedures:

Same as Notification Procedures.

Contesting Record Procedures:

Same as Notification Procedures.

Record Source Categories:

Information is provided by the individual who is the subject of the record.

Exemptions Claimed for the System:

None.

FRTIB-13

System Name:

Fraud and Forgery Records.

Security Classification:

None.

System Location:

Records are located at the Federal Retirement Thrift Investment Board, 77 K Street NE., Suite 1000, Washington, DC 20002. Records may also be kept at an additional location for Business Continuity purposes.

Categories of Individuals Covered by the System:

This system of records contains information on Thrift Savings Plan (TSP) participants, beneficiaries, alternate payees, and third party individuals alleged to have committed an act of fraud or forgery relating to participant and beneficiary accounts; and third parties alleged to have misappropriated, or attempted to misappropriate the FRTIB's (including the TSP's) name, brand, or logos.

Categories of Records in the System:

These records contain the following kinds of information: Name, date of birth, and Social Security number of TSP participants, beneficiaries, alternate payees, and third parties alleged to have committed an act of fraud or forgery relating to participant accounts; TSP account information related to the fraud or forgery allegation; information obtained from other agencies as it relates to allegations of fraud or forgery; documentation of complaints and allegations of fraud and forgery; exhibits, statements, affidavits, or records obtained during investigations of fraud, or forgery, court and administrative orders, transcripts, and documents; internal staff memoranda; staff working papers; and other documents and records related to the investigation of fraud or forgery, including the disposition of the allegations; and reports on the investigation.

Authority for Maintenance of the System:

5 U.S.C. 8474; and 44 U.S.C. 3101.

Purpose(s):

These records are used to inquire into and investigate allegations that a TSP participant, beneficiary, alternate payee, or third party has committed or attempted to commit an act of fraud or forgery relating to a participant or beneficiary account; and to collect information to verify allegations that a third party has misappropriated the FRTIB's (or TSP's) name, brand, or logos.

Routine Uses of Records Maintained in the System, Including Categories of Users and the Purposes of Such Uses:

Information about covered individuals may be disclosed without consent as permitted by the Privacy Act of 1974, as amended, 5 U.S.C. 552a(b); and:

8. General Routine Uses G1 through G2; G4 through G5; G8 through G14; and G16 apply to this system of records (see Prefatory Statement of General Routine Uses);

9. Information used to verify allegations that a third party has misappropriated the FRTIB's (or TSP's) name, brand, or logos may be disclosed to the Federal Bureau of Investigation, Department of Justice, or Securities and Exchange Commission for further investigation, prosecution, or enforcement;

10. A record from this system may be disclosed to the Secret Service for the purpose of investigating forgery, and to the Department of Justice, when substantiated by the Secret Service;

11. A record pertaining to may be disclosed to the current or former employing agency of the participant, beneficiary, alternate payee, or third party alleged to have committed fraud or forgery against a participant account for the purpose of further investigation or administrative action; and

12. A record from this system may be disclosed to informants, complainants, or victims to the extent necessary to provide those persons with information and explanations concerning the progress or results of the investigation.

Disclosure to Consumer Reporting Agencies:

None.

Policies and Practices for Storing, Retrieving, Accessing, Retaining, and Disposing of Records in the System:

Storage:

Records are maintained in paper and electronic form, including on computer databases, all of which are stored in a secure location.

Retrievability:

Records are retrieved by name or file number.

Safeguards:

FRTIB has adopted appropriate administrative, technical, and physical controls in accordance with FRTIB's security program to protect the security, confidentiality, availability, and integrity of the information, and to ensure that records are not disclosed to or accessed by unauthorized individuals.

Paper records are stored in locked file cabinets in areas of restricted access that are locked after office hours. Electronic records are stored on computer networks and protected by assigning usernames to individuals needing access to the records and by passwords set by authorized users that must be changed periodically.

Retention and Disposal:

Records in this system are destroyed seven years after the case is closed.

System Manager(s) and Address:

Supervisory Fraud Specialist, Federal Retirement Thrift Investment Board, 77 K Street NE., Suite 1000, Washington, DC 20002.

Notification Procedure:

Individuals seeking to determine whether this system of records contains information about themselves should submit a written request to the FOIA Officer, 77 K Street NE., Washington, DC 20002, and include the following information:

a. Full name;

b. Any available information regarding the type of record involved;

c. The address to which the record information should be sent; and

d. You must sign your request.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedure:

Same as Notification Procedures.

Contesting Records Procedure:

Same as Notification Procedures.

Record Source Categories:

Records in this system may be provided by or obtained from the following: Persons to whom the information relates when practicable, including TSP participants, beneficiaries, alternate payees, or other third parties; complainants; informants; witnesses; investigators; persons reviewing the allegations; Federal, state and local agencies; and investigative reports and records.

Exemptions Claimed for System:

Pursuant to 5 U.S.C. 552a(k)(2), records in this system of records are exempt from the requirements of subsections (c)(3); (d); (e)(1); (e)(4)(G), (H), (I); and (f) of 5 U.S.C. 552a, provided, however, that if any individual is denied any right, privilege, or benefit that he or she would otherwise be entitled to by federal law, or for which he or she would otherwise be eligible, as a result of the maintenance of these records, such material shall be provided to the individual, except to the extent that the disclosure of the material would reveal the identity of a source who furnished information to the Government with an express promise that the identity of the source would be held in confidence.

FRTIB-14

System Name:

FRTIB Legal Case Files.

Security Classification:

None.

System Location:

Records are located at the Federal Retirement Thrift Investment Board, 77 K Street NE., Suite 1000, Washington, DC 20002. Records may also be located in additional locations for Business Continuity purposes.

Categories of Individuals Covered by the System:

Individuals who are participants, beneficiaries, and alternate payees of the Thrift Savings Plan; other individuals who are identified in connection with investigations and/or litigation conducted with regard to FERSA; individuals (including FRTIB employees) who are parties to or witnesses in civil litigation or administrative proceedings involving or concerning FRTIB or its officers or employees (including Special Governmental Employees); individuals who are the subject of a breach of personally identifiable information; individuals who are contractors or potential contractors with FRTIB or are otherwise personally associated with a contract or procurement matter; individuals who receive legal advice from the Office of General Counsel; and other individuals (including current, former, and potential FRTIB employees (including Special Governmental Employees), contractors, interns, externs, and volunteers) who are the subject of or are otherwise connected to an inquiry, investigation, or other matter handled by the Office of General Counsel.

Categories of Records in the System:

Notes, reports, legal opinions and memoranda; settlements; agreements; documentary evidence; claims and records regarding discrimination; correspondence; contracts; contract proposals and other procurement documents; TSP documents; participant, beneficiary, and alternate payee files; initial and final FRTIB determinations of FERSA matters; Freedom of Information Act and Privacy Act requests and appeals, and decisions of those requests and appeals; drafts and legal reviews of proposed personnel actions; personnel records; litigation files; employee relations files; witness statements; summonses and subpoenas; affidavits; court transcripts; discovery requests and responses; and breach reports and supporting documents.

Authority for Maintenance of the System:

5 U.S.C. 8474; and 44 U.S.C. 3301.

Purpose(s):

The purpose of this system is to assist FRTIB attorneys in providing legal advice to FRTIB personnel on a wide variety of legal issues; to collect the information of any individual who is, or will be, in litigation with the Agency, as well as the attorneys representing the plaintiff(s) or defendant(s), response to claims by employees, former employees, and other individuals; to assist in the settlement of claims against the government; to represent FRTIB during litigation; and to catalogue, investigate, litigate, or otherwise resolve any case or matter handled by the Office of General Counsel.

Routine Uses of Records Maintained in the System, Including Categories of Users and the Purposes of Such Uses:

Information about covered individuals may be disclosed without consent as permitted by the Privacy Act of 1974, 5 U.S.C. 552a(b), and:

1. General Routine Uses G1 through G16 apply to this system of records (see Prefatory Statement of General Routine Uses).

2. Names, addresses, telephone numbers, and email addresses of employees, former employees, participants, beneficiaries, alternate payees, and information pertaining to debts to the FRTIB may be disclosed to the Department of Treasury, Department of Justice, a credit agency, and a debt collection firm to collect the debt. Disclosure to a debt collection firm shall be made only under a contract that binds any such contractor or employee of such contractor to the criminal penalties of the Privacy Act.

3. Information may be provided to third parties during the course of an investigation to the extent necessary to obtain information pertinent to the investigation.

4. A record relating to a case or matter may be disseminated to a foreign country pursuant to an international treaty or convention entered into and ratified by the United States or to an executive agreement.

5. A record may be disseminated to a foreign country, through the United States Department of State or directly to the representative of such country, to the extent necessary, to assist such country in civil or criminal proceedings in which the United States or one of its officers or agents has an interest.

Disclosure to Consumer Reporting Agencies:

Information from this system of records may be disclosed to a consumer reporting agency in accordance with 31 U.S.C. 3711(e).

Policies and Practices for Storing, Retrieving, Accessing, Retaining, and Disposing of Records in the System:

Storage:

Records are maintained electronically in computer databases, including cloud-based services, and on paper in secure facilities in a locked drawer behind a secured-access door.

Retrievability:

Records are retrieved by the name of the individual on whom they are maintained, and may also be retrieved by case number.

Safeguards:

FRTIB has adopted appropriate administrative, technical, and physical controls in accordance with FRTIB's security program to protect the security, confidentiality, availability, and integrity of the information, and to ensure that records are not disclosed to or accessed by unauthorized individuals.

Paper records are stored in file cabinets in areas of restricted access that are locked after office hours. Electronic records are stored on computer networks, including cloud-based services, and are protected by assigning usernames to individuals needing access to the records and by passwords set by unauthorized users that must be changed periodically.

Retention and Disposal:

Records are maintained in accordance with the General Records Retention Schedules issued by the National Archives and Records Administration (NARA) or an FRTIB records disposition schedule.

System Manager(s) and Address:

General Counsel, Federal Retirement Thrift Investment Board, 77 K Street NE., Suite 1000, Washington, DC 20002.

Notification Procedure:

Individuals seeking to determine whether this system of records contains information about themselves must submit a written request to the FOIA Officer, FRTIB, 77 K Street NE., Washington, DC 20002, and provide the following information:

j. Full name;

k. Any available information regarding the type of record involved;

l. The address to which the record information should be sent; and

m. Your signature.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedures:

Same as Notification Procedures.

Contesting Record Procedures:

Same as Notification Procedures.

Record Source Categories:

Subject individuals; TSP participants, beneficiaries, and alternate payees; federal government records; current, and former, and potential employees (including Special Government Employees); contractors; interns, externs, and volunteers; the Social Security Administration; court records; articles from publications; and other organizations or individuals with relevant knowledge or information.

Exemptions Claimed for System:

Pursuant to 5 U.S.C. 552a(k)(2), records from this system are exempt from the requirements of subsections (c)(3); (d); (e)(1); (e)(4)(G), (H), (I); and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government with an express promise that the identity of the source would be held in confidence.

FRTIB-15

System Name:

Internal Investigations of Harassment and Hostile Work Environment Allegations.

Security Classification:

None.

System Location:

Records are located at the Federal Retirement Thrift Investment Board, 77 K Street NE., Suite 1000, Washington, DC 20002. Records may also be located in additional locations for Business Continuity purposes.

Categories of Individuals Covered by the System:

Current or former FRTIB employees (including Special Government Employees), contractors, interns, externs, and volunteers who have filed a complaint or report of harassment or hostile work environment, or have been accused of harassing conduct; and witnesses or potential witnesses.

Categories of Records in the System:

This system of records contains all documents related to a complaint or report of harassment, which may include the name, position, grade, and supervisor(s) of the complainant and the accused; the complaint; witness statements; interview notes; legal memoranda; reports of investigation; final decisions and corrective actions taken; and related correspondence and exhibits.

Authority for Maintenance of the System:

5 U.S.C. 8474; 42 U.S.C. 2000e et seq.; and 44 U.S.C. 3101.

Purpose(s):

This system of records is maintained for the purpose of upholding FRTIB's policy to provide for a work environment free from all forms of harassment, including sexual harassment, and harassment on the basis of race, color, gender, national origin, religion, sexual orientation, age, genetic information, reprisal, parental status, or disability.

Routine Uses of Records Maintained in the System, Including Categories of Users and the Purposes of Such Uses:

Information about covered individuals may be disclosed without consent as permitted by the Privacy Act of 1974, 5 U.S.C. 552a(b), and:

6. General Routine Uses G1 through G16 apply to this system of records (see Prefatory Statement of General Routine Uses).

7. Disclosure of information from this system of records about an investigation that may have been conducted may be made to the complaining party; the alleged harasser; and to a limited number of witnesses when the purpose of the disclosure is both relevant and necessary and is compatible with the purpose for which the information was collected.

Disclosure to Consumer Reporting Agencies:

None.

Policies and Practices for Storing, Retrieving, Accessing, Retaining, and Disposing of Records in the System:

Storage:

Records are maintained electronically in computer databases, including cloud-based services, and on paper in secure facilities in a locked drawer behind a secured-access door.

Retrievability:

Records are retrieved by the name of the individual on whom they are maintained, and may also be retrieved by case number.

Safeguards:

FRTIB has adopted appropriate administrative, technical, and physical controls in accordance with FRTIB's security program to protect the security, confidentiality, availability, and integrity of the information, and to ensure that records are not disclosed to or accessed by unauthorized individuals.

Paper records are stored in file cabinets in areas of restricted access that are locked after office hours. Electronic records are stored on computer networks, including cloud-based services, and are protected by assigning usernames to individuals needing access to the records and by passwords set by unauthorized users that must be changed periodically.

Retention and Disposal:

Records are maintained in accordance with the General Records Retention Schedules issued by the National Archives and Records Administration (NARA) or an FRTIB records disposition schedule.

System Manager(s) and Address:

Human Resources Officer, Federal Retirement Thrift Investment Board, 77 K Street NE., Suite 1000, Washington, DC 20002.

Notification Procedure:

Individuals seeking to determine whether this system of records contains information about themselves must submit a written request to the FOIA Officer, FRTIB, 77 K Street NE., Washington, DC 20002, and provide the following information:

n. Full name;

o. Any available information regarding the type of record involved;

p. The address to which the record information should be sent; and

q. Your signature.

Attorneys or other persons acting on behalf of an individual must provide written authorization from that individual, such as a Power of Attorney, in order for the representative to act on their behalf. Individuals requesting access must also comply with FRTIB's Privacy Act regulations regarding verification of identity and access to such records, available at 5 CFR part 1630.

Record Access Procedure:

Same as Notification Procedures.

Contesting Records Procedure:

Same as Notification Procedures.

Record Source Categories:

Subject individuals; supervisors and other FRTIB employees with knowledge; agency EEO and human resources specialists; employee relations staff; FRTIB attorneys; outside counsel retained by subject individuals; and medical professionals.

Exemptions Claimed for System:

Pursuant to 5 U.S.C. 552a(k)(2), records in this system are exempt from the requirements of subsections (c)(3); (d); (e)(1); (e)(4)(G), (H), (I); and (f) of 5 U.S.C. 552a, provided, however, that if any individual is denied any right, privilege, or benefit that he or she would otherwise be entitled to by Federal law, or for which he or she would otherwise be eligible, as a result of the maintenance of these records, such material shall be provided to the individual, except to the extent that the disclosure of the material would reveal the identity of a source who furnished information to the Government with an express promise that the identity of the source would be held in confidence.

[FR Doc. 2015-17924 Filed 7-21-15; 8:45 am]

BILLING CODE 6760-01-P